DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. No. 92-463, 86 Stat. 770) requires that public notice of this meeting be announced in the Federal Register.

DATES: Thursday, February 7, 2008, 9 a.m.-5 p.m; Friday, February 8, 2008, 8:30 a.m.-4 p.m.

ADDRESSES: Columbia Basin College, Byron Gjerde Center, 2600 North 20th Avenue, Pasco, Washington 99301, Phone: (509) 547-0511, Fax: (509) 544-2023.

FOR FURTHER INFORMATION CONTACT: Erik Olds, Federal Coordinator, Department of Energy Richland Operations Office, 2440 Stevens Drive, P.O. Box 450, H6-60, Richland, WA 99352; Phone: (509) 372-8656; or E-mail: Theodore_E_Erik_Olds@orp.doe.gov.

SUPPLEMENTARY INFORMATION:

Purpose of the Board: The purpose of the Board is to make recommendations to DOE in the areas of environmental restoration, waste management, and related activities.

Tentative Agenda:

• Discussion on Hanford's Fiscal Year 2008-2010 Budget.

• Tank Closure and Waste Management Environmental Impact Statement.

• Black Rock Environmental Impact Statement.

• Briefing on the State of the Columbia River Report.

• Briefing on the Technology Road Map.

• Discussion on the upcoming EM SSAB Meeting in Hanford on April 22-24, 2008.

• Hanford Advisory Board Self Evaluation.

• Hanford Advisory Board Process Manua.

• Hanford Advisory Board Budget.

• Committee Updates, including Tank Waste Committee, River and Plateau Committee, Health, Safety and Environmental Protection Committee, Public Involvement Committee, and Budgets and Contracts Committee.

Public Participation: The meeting is open to the public. Written statements may be filed with the Board either before or after the meeting. Individuals who wish to make oral statements pertaining to agenda items should contact Erik Olds' office at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Erik Olds' office at the address or phone number listed above. Minutes will also be available at the following Web site http://www.hanford.gov/?page=413&parent=397.

Issued at Washington, DC on December 31, 2007.
Rachel Samuel,
Deputy Committee Management Officer.

[FR Doc. E8-14 Filed 1-4-08; 8:45 am]

BILLING CODE 6450-01-P